DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee.

DATES: The meeting will be held October 11-12, 2000, beginning at 9 a.m. on October 11. Arrange for oral presentations by October 4.

ADDRESSES: The meeting will be at the Bessie Coleman Conference Center, Federal Aviation Administration, 800 Independence Ave., SW., Washington, DC.

FOR FURTHER INFORMATION CONTACT: Terry K. Stubblefield, Office of Rulemaking, ARM-208, FAA, 800 Independence Avenue, SW, Washington, DC 20591, Telephone (202) 267-7624, FAX (202) 267-5075. Alternate Contact: Brenda D. Courtney, ARM-200, Telephone (202) 267-3327.

SUPPLEMENTARY INFORMATION: Notice is hereby given of a meeting of the Aging Transport Systems Rulemaking Advisory Committee in the Bessie Coleman Conference Center, Federal Aviation administration, 800 Independence Ave., SW., Washington, DC.

The agenda will include:

• Opening remarks

• Working group reports

• Review Task 1—Intrusive Inspections Report

• Review Task 3—Maintenance Criteria

• Review Task 4—Standard Wire Practice Improvements

• Review Task 5—Review Air Carrier Training

• Report by ATA on the status of implementing ATSRAC-recommended wire codes

If the Aging Transport Systems Rulemaking Advisory Committee approves of the draft working group reports for Tasks 1, 3, 4 and 5, they will be forwarded to the FAA as formal recommendations.

Attendance is open to the interested public but will be limited to the space available. The public must make arrangements by October 4, 2000, to present oral statements at the meeting. The public may present written statements to the committee an any time by providing 20 copies to the Executive Director, or by bringing the copies to him at the meeting. Public statements will only be considered if time permits. In addition, sign and oral interpretation as well as a listening device can be made available if requested 10 calendar days before the meeting.

Issued in Washington, DC on September 21, 2000.
Anthony F. Fazio,
Director, Office of Rulemaking.

[FR Doc. 00-24868 Filed 9-26-00; 8:45 am]

BILLING CODE 4910-13-M